DEPARTMENT OF VETERANS AFFAIRS

Notice of Intent To Prepare an Environmental Impact Statement for a Replacement Robley Rex Veterans Affairs Medical Center, Louisville, Kentucky

AGENCY: Department of Veterans Affairs.

ACTION: Notice of intent.

SUMMARY: Pursuant to the National Environmental Policy Act of 1969 (42 U.S.C. 4321, et seq.), VA intends to prepare an Environmental Impact Statement (EIS) for constructing and operating a new campus to replace the existing VA Medical Center, Veterans Benefits Administration office, and three community-based outpatient clinics in Louisville, Kentucky. VA seeks public scoping input on the EIS.

DATES: Interested parties are invited to submit scoping comments for the Replacement Louisville VAMC EIS by Monday, November 30, 2015.

ADDRESSES: Submit scoping comments online through www.Louisville-EIS.com, by email to LouisvilleReplacementHospitalComments@va.gov, or by regular mail to Robley Rex VAMC, Attn: Replacement VAMC Activation Team Office, 800 Zorn Avenue, Louisville, KY 40206.

FOR FURTHER INFORMATION CONTACT: Robley Rex VAMC, Attn: Replacement VAMC Activation Team Office, 800 Zorn Avenue, Louisville, KY 40206 or by email to LouisvilleReplacementHospitalComments@va.gov.

SUPPLEMENTARY INFORMATION: VA proposes to construct and operate a new 104-bed hospital, which will include diagnostic and treatment facilities, a Veterans Benefits Administration (VBA) regional office, and required site amenities and improvements on a new campus. This proposed project would replace the existing Robley Rex VA Medical Center (VAMC), three community-based outpatient clinics, and the existing VBA regional office with new facilities of sufficient capacity to meet the current and projected future healthcare needs of Veterans in the Louisville service area. The proposed project is needed because the existing Louisville VAMC facilities on Zorn Avenue have reached the end of their serviceable lives. The building conditions and site configuration at the existing 63-year old VAMC are inadequate to effectively and efficiently meet the expanding needs of VA's health care mission and VBA services in the region. Within the Louisville service area, 60,943 Veterans were enrolled to receive care in Fiscal Year 2014. Enrollment is expected to increase to more than 68,000 by FY 2024. During this same time period, outpatient clinic stops are expected to increase from 763,104 to over 963,000. The existing Louisville VAMC facility is insufficient to meet the current and the increasing future needs of VA's health care mission in the region. Therefore, VA conducted studies beginning in 2009 that recommended new facilities be constructed on a new site that would be better suited to meet future needs.

VA has identified two potential action alternatives to be analyzed in detail in this EIS: Construction and operation of a replacement VAMC campus at the “Brownsboro Site” at 4906 Brownsboro Road, Louisville; and construction and operation of a replacement VAMC campus at the “St. Joseph Site,” on a parcel located east of I-265 and south of Factory Lane in Louisville. The Brownsboro and St. Joseph Sites were identified through a site selection process conducted by VA in 2011. The Brownsboro Site was acquired by VA in 2012 as the proposed location for the replacement VAMC. In addition to these two action alternatives, the EIS also will evaluate the impacts associated with No Action or “status quo” as required by the National Environmental Policy Act (NEPA) and its implementing regulations. The three community-based outpatient clinics and the existing VBA regional office are currently located in leased spaces, for which the leases would not be renewed under either action alternative. VA has tentatively determined that renovating the existing Robley Rex VAMC is not a reasonably foreseeable alternative and would adversely affect VA's ability to provide needed services to Veterans.

Environmental topics that will be addressed in the EIS include aesthetics, air quality, cultural resources and historic properties, geology and soils, hydrology and water quality, wildlife and habitat, noise, land use, floodplains and wetlands, socioeconomics, community services, solid waste and hazardous materials, transportation and traffic, utilities, and environmental justice. Best management practices and mitigation measures that could alleviate any identified environmental effects will be included where relevant.

Two prior environmental assessments (EAs) addressed aspects of VA's proposal. In June 2012, VA completed a Programmatic EA of the Proposed Site Selection, Construction, and Operation of a Replacement Louisville VA Medical Center. This analysis concluded with a Finding of No Significant Impact for selecting and acquiring the Brownsboro Site for the replacement Louisville VAMC, with the provision that mitigation measures would be identified in a subsequent site-specific EA to ensure that impacts would not be significant. In December 2014, VA published a Draft Site-Specific EA: Proposed Replacement VA Medical Center Campus, Louisville, Kentucky. However, upon further review before publishing a Final Site-Specific EA, VA concluded that an EIS was the appropriate level of NEPA documentation for evaluating the potential for adverse impacts from constructing and operating a replacement campus at the Brownsboro Site. This Notice of Intent initiates the EIS for the replacement Louisville VAMC campus.

Extensive public input was provided by Veterans, elected officials, residents near the proposed new locations, and other interested members of the public throughout the scoping and public draft reviews for the two EAs. These comments remain in the project record and are being incorporated as identified scoping issues for this EIS.

VA does not intend to hold a public scoping event specific to this EIS, anticipating that any input would largely reiterate issues that have been previously identified. Upon specific request, VA will consider whether an additional in-person scoping event would enhance public involvement in this EIS. The event would be at a Louisville venue at which a project fact sheet would be available in hard copy, posters summarizing the EIS process would be available for viewing, and members of the public could submit written comments using either comment forms or their own written format. There would be no formal presentation by VA or verbal public comment opportunity. The comment form (this form is not a required format for submitting scoping comments), the fact sheet, and the two previous EAs are available online at www.louisville.va.gov/newmedicalcenter/, along with other information related to the EIS process.

The Secretary of Veterans Affairs, or designee, approved this document and authorized the undersigned to sign and submit the document to the Office of the Federal Register for publication electronically as an official document of the Department of Veterans Affairs. Robert L. Nabors II, Chief of Staff, Department of Veterans Affairs, approved this document on October 22, 2015, for publication.

Dated: October 27, 2015.
Michael Shores,
Chief Impact Analyst, Office of Regulation Policy & Management, Office of the General Counsel, Department of Veterans Affairs.

[FR Doc. 2015-27658 Filed 10-29-15; 8:45 am]

BILLING CODE 8320-01-P